FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 14941N.

Name: Air Freight Consolidators International, Inc. dba ACI Line.

Address: 1251 E. Dyer Road, Suite 200, Santa Ana, CA 92705.

Date Revoked: August 14, 2003.

Reason: Surrendered license voluntarily.

License Number: 3235F.

Name: All Points Freight Forwarding Inc.

Address: 28 Taylor's Bills Road, Manalapan, NJ 07726.

Date Revoked: September 20, 2003.

Reason: Failed to maintain a valid bond.

License Number: 17893F.

Name: All World Logistics, Inc. dba Internet Shipping Line.

Address: 969 Newark Turnpike, Kearny, NJ 07032.

Date Revoked: September 18, 2003.

Reason: Failed to maintain a valid bond.

License Number: 18051N.

Name: Dominicana Air & Ocean Freight Corp.

Address: 1332 NW. 36th Street, Miami, FL 33142.

Date Revoked: September 25, 2003.

Reason: Failed to maintain a valid bond.

License Number: 17255NF.

Name: Fagioli PSC USA, Inc.

Address: 3050 Post Oak Blvd., Suite 205, Houston, TX 77056-6570.

Date Revoked: August 20, 2003.

Reason: Failed to maintain valid bonds.

License Number: 15628N.

Name: Freight Brokers International, Inc.

Address: 207 Meadow Road, Edison, NJ 08817.

Date Revoked: September 23, 2003.

Reason: Surrendered license voluntarily.

License Number: 16950NF.

Name: Global Cargo Corporation.

Address: 8470 NW. 30th Terrace, Miami, FL 33122.

Date Revoked: September 25, 2003.

Reason: Failed to maintain valid bonds.

License Number: 16414N and 16414F.

Name: Global Logistics Services, Inc. dba Global Sea.

Address: 5350 South Kirkwood Ave., Cudahy, WI 53110.

Date Revoked: August 16, 2003 and August 22, 2003.

Reason: Failed to maintain valid bonds.

License Number: 17537NF.

Name: Green Freight LLC dba Greenfreight.

Address: 1107 First Ave., Suite 1101, Seattle, WA 98101.

Date Revoked: August 30, 2003.

Reason: Failed to maintain valid bonds.

License Number: 15742F.

Name: JB Han Company, Inc. dba Joinus Freight System.

Address: 550 E. Carson Plaza Drive, Suite 217, Carson, CA 90746.

Date Revoked: September 5, 2003.

Reason: Failed to maintain a valid bond.

License Number: 17412N.

Name: PDS Express, Inc.

Address: 473 Broadway, Suite 215, Bayonne, NJ 07002.

Date Revoked: September 28, 2003.

Reason: Failed to maintain a valid bond.

License Number: 14874N.

Name: PRO Freight Ocean Cargo, Inc.

Address: 15343 NW. 33rd Place, Opalocka, FL 33054.

Date Revoked: September 21, 2003.

Reason: Failed to maintain a valid bond.

License Number: 4135F.

Name: Transworld Export Services, Inc.

Address: 910 Bergen Aven., Suite 204-B, Jersey City, NJ 07306.

Date Revoked: September 20, 2003.

Reason: Failed to maintain a valid bond.

Sandra L. Kusumoto,
Director, Bureau of Consumer Complaints and Licensing.

[FR Doc. 03-26238 Filed 10-16-03; 8:45 am]

BILLING CODE 6730-01-P